DEPARTMENT OF DEFENSE

National Reconnaissance Office, Privacy Act of 1974; System of Records

AGENCY: National Reconnaissance Office, DOD.

ACTION: Notice to add a system of records.

SUMMARY: The National Reconnaissance Office is adding a system of records notice to its inventory of record systems subject to the Privacy Act of 1974, (5 U.S.C. 552a), as amended.

DATES: This proposed action will be effective without further notice on July 28, 2003 unless comments are received which result in a contrary determination.

ADDRESSES: Send comments to the National Reconnaissance Office, 14675 Lee Road Chantilly, VA 20151-1715.

FOR FURTHER INFORMATION CONTACT: Ms. Barbara Freimann at (703) 808-5029.

SUPPLEMENTARY INFORMATION: The National Reconnaissance Office's system of records notices subject to the Privacy Act of 1974, (5 U.S.C. 552a), as amended, have been published in the Federal Register and are available from the address above.

The proposed system report, as required by 5 U.S.C. 552a(r) of the Privacy Act of 1974, as amended, was submitted on June 17, 2003, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: June 23, 2003.
Patricia L. Toppings,
Alternate OSD Federal Register Liaison Officer, Department of Defense.

NRO-08

System name:

Employee Assistance Program Case Files.

System location:

Management Services and Operations, Employee Assistance Program Office, National Reconnaissance Office, 14675 Lee Road, Chantilly, VA 20151-1715.

Categories of individuals covered by the system:

National Reconnaissance Office (NRO) civilian, military, and contractor personnel, who have chosen to request assistance or, in some cases, have been referred by management for assistance.

Categories of records in the system:

Name, Social Security Number, date of birth, home telephone number, and home address, and questionnaires completed by patients. Case records may include medically confidential evaluations and assessments on the conditions, current status, and progress of counselees; records of medical/psychological testing, treatment, and services; and counselee and third party interview comments.

Authority for maintenance of the system:

5 U.S.C. 301, Departmental Regulations; 5 U.S.C. 7904, Employee assistance programs relating to drug abuse and alcohol abuse; 42 U.S.C. 290dd, Substance abuse among government and other employees; 42 U.S.C. 290dd-2; Confidentiality of records; 5 CFR part 792, subpart A, Regulatory Requirements for Alcoholism and Drug Abuse Programs and Services for Federal Civilian Employees; National Security Act of 1947, as amended; E.O. 12333, U.S. Intelligence Activities; E.O. 12564, Drug-Free Federal Workplace; and E.O. 9397 (SSN).

Purpose(s):

The Employee Assistance Program (EAP) provides in-house confidential professional counseling and referral services. The files contain information that is used in the course of counseling.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routines Uses’ published at the beginning of the NRO compilation of systems of records notices apply to this system.

Note: Records of identity, diagnosis, prognosis or treatment of any client/patient irrespective of whether or when he/she ceases to be a client/patient, maintained in connection with the performance of any alcohol or drug abuse prevention and treatment function conducted, requested, or directly or indirectly assisted by any department or agency of the United States, shall, except as provided herein, be confidential and be disclosed only for the purposes and under the circumstances expressly authorized in 42 U.S.C. 290dd-2. This statute takes precedence over the Privacy Act of 1974 in regard to accessibility of such records except to the individual to whom the record pertains. The DoD “Blanket Routine Uses” do not apply to these types of records.

Policies and practices for storing, retrieving, accessing, retaining, and disposing of records in the system:

Storage:

Paper files and automated information system, maintained in computer and computer output products.

Retrievability:

Information is retrieved by the client's assigned case number.

Safeguards:

Records are stored in a secure, gated facility, guard, badge, and password access protected. Access to and use of these records are limited to the EAP staff whose official duties require such access. The automated information system is protected by a special encryption device; paper files are kept in a safe in a locked room. EAP records are separate from and do not become part of any employee security or personnel file.

Retention and disposal:

Records are temporary, to be destroyed when 5 years old. After termination of all sessions EAP will hold counseling files in a current file area for 3 years before transferring them to the NRO Archive for the remaining time.

System manager(s) and address:

Chief, Employee Assistance Program, Management Services and Operations, National Reconnaissance Office, 14675 Lee Road, Chantilly, VA 20151-1715.

Notification procedure:

Individuals seeking to determine whether this system of records contains information about themselves should address written inquiries to the National Reconnaissance Office, Information Access and Release Center, 14675 Lee Road, Chantilly, VA 20151-1715.

Request should include the individual's full name and address, Social Security Number, and other information identifiable from the record.

In addition, the requester must provide a notarized statement or an unsworn declaration made in accordance with 28 U.S.C. 1746, in the following format:

If executed without the United States: I declare (or certify, verify, or state) under penalty of perjury under the laws if the United States of America that the foregoing is true and correct. Executed on (date). Signature.

If executed within the United States, its territories, possessions, or commonwealth: I declare (or certify, verify, or state) under penalty of perjury that the foregoing is true and correct. Executed on (date). Signature.

Record access procedures:

Individuals seeking to access information about themselves contained in this system should address written inquiries to the National Reconnaissance Office, Information Access and Release Center, 14675 Lee Road, Chantilly, VA 20151-1715.

Request should include the individual's full name, address, Social Security Number, and other information identifiable from the record.

In addition, the requester must provide a notarized statement or an unsworn declaration made in accordance with 28 U.S.C.1746, in the following format:

If executed without the United States: I declare (or certify, verify, or state) under penalty of perjury under the laws if the United States of America that the foregoing is true and correct. Executed on (date). Signature.

If executed within the United States, its territories, possessions, or commonwealths: I declare (or certify, verify, or state) under penalty of perjury that the foregoing is true and correct. Executed on (date). Signature.

Contesting record procedures:

The NRO rules for accessing records, for contesting contents and appealing initial agency determinations are published in NRO Directive 110-3A and NRO Instruction 110-5A; 32 CFR part 326; or may be obtained from the Privacy Act Coordinator, National Reconnaissance Office, 14675 Lee Road, Chantilly, VA 20151-1715.

Record source categories:

Information is supplied by the client, by third parties, and by the EAP staff.

Exemptions claimed for the system:

None.

[FR Doc. 03-16132 Filed 6-25-03; 8:45 am]

BILLING CODE 5001-08-P